FEDERAL ELECTION COMMISSION

[Notice 2005-7]

Price Index Increases for Expenditure and Contribution Limitations

AGENCY: Federal Election Commission.

ACTION: Corrected notice of expenditure and contribution limitation increases.

SUMMARY: As mandated by provisions of the Bipartisan Campaign Reform Act of 2002 (“BCRA”), the Federal Election Commission (“FEC” or “the Commission”) is adjusting certain expenditure and contribution limitations set forth in the Federal Election Campaign Act of 1971, as amended (“FECA” or “the Act”), to account for increases in the consumer price index. This notice corrects certain information regarding the effective periods for changes to contribution limits under FECA that was published in the Commission's notice appearing in the February 10, 2005, Federal Register.

Additional details appear in the supplemental information that follows.

DATES: Effective Date: The effective date for the limits at 2 U.S.C. 441a(a)(1)(A), 441a(a)(1)(B) and 441a(h) is November 3, 2004. The effective date for the limits at 2 U.S.C. 441a(a)(3) and 441a(d) is January 1, 2005.

FOR FURTHER INFORMATION CONTACT: Mr. Gregory J. Scott, Information Division, 999 E Street, NW., Washington, DC 20463; telephone: (202) 694-1100; toll free (800) 424-9530.

SUPPLEMENTARY INFORMATION: Under the Federal Election Campaign Act of 1971, 2 U.S.C. 431 et seq., as amended by the Bipartisan Campaign Reform Act of 2002, Public Law 107-155, 116 Stat. 81 (March 27, 2002), coordinated party expenditure limits (2 U.S.C. 441a(d)(3)(A) and (B)), and certain contribution limits (2 U.S.C. 441a(a)(1)(A) and (B), (a)(3), (d) and (h)), are adjusted either annually or biennially by the consumer price index. See 2 U.S.C. 441a(c)(1). The Commission is publishing this notice to announce these limits for 2005 or the 2005-2006 election cycle.

Coordinated Party Expenditure Limits for 2005

Under 2 U.S.C. 441a(c), the Commission must adjust the expenditure limitations established by 2 U.S.C. 441a(d) (the limits on expenditures by national party committees, State party committees, or their subordinate committees in connection with the general election campaign of candidates for Federal office) annually to account for inflation. This expenditure limitation is increased by the percent difference between the price index, as certified to the Commission by the Secretary of Labor, for the 12 months preceding the beginning of the calendar year and the price index for the base period (calendar year 1974).

1. Expenditure Limitation for House of Representatives

Both the national and state party committees have an expenditure limitation for each general election held to fill a seat in the House of Representatives. The formula used to calculate the expenditure limitation in a state with more than one congressional district multiplies the base figure of $10,000 by the price index (3.831), rounding to the nearest $100. Based upon this formula, the expenditure limitation for 2005 House elections in those states is $38,300. The formula used to calculate the expenditure limitation in a state with only one congressional district multiplies the base figure of $20,000 by the price index (3.831), rounding to the nearest $100. Based upon this formula, the expenditure limitation for 2005 House elections in these states is $76,600.

2. Expenditure Limitation for Senate

Both the national and state party committees have an expenditure limitation for a general election held to fill a seat in the Senate. The formula used to calculate the Senate expenditure limitation considers not only the price index but also the voting age population (“VAP”) of the state. The expenditure limitation is the greater of: the base figure ($20,000) multiplied by the price index (which totals $76,600); or $0.02 multiplied by the VAP of the state, multiplied by the price index. Amounts are rounded to the nearest $100. The chart below provides the state-by-state breakdown of the 2005 expenditure limitations for Senate elections.

Senate Expenditure Limitations—2005 Elections
State | VAP (in thousands) | VAP x .02 multiplied by the price index (3.831) | Expenditure limit (the greater of the amount in column 3 or $76,600)
Alabama | 3,436 | $263,300 | $263,300
Alaska | 467 | 35,800 | 76,600
Arizona | 4,197 | 321,600 | 321,600
Arkansas | 2,076 | 159,100 | 159,100
California | 26,297 | 2,014,900 | 2,014,900
Colorado | 3,423 | 262,300 | 262,300
Connecticut | 2,665 | 204,200 | 204,200
Delaware | 637 | 48,800 | 76,600
Florida | 13,394 | 1,026,300 | 1,026,300
Georgia | 6,497 | 497,800 | 497,800
Hawaii | 964 | 73,900 | 76,600
Idaho | 1021 | 78,200 | 78,200
Illinois | 9,475 | 726,000 | 726,000
Indiana | 4,637 | 355,300 | 355,300
Iowa | 2,274 | 174,200 | 174,200
Kansas | 2,052 | 157,200 | 157,200
Kentucky | 3,166 | 242,600 | 242,600
Louisiana | 3,351 | 256,800 | 256,800
Maine | 1,035 | 79,300 | 79,300
Maryland | 4,163 | 319,000 | 319,000
Massachusetts | 4,952 | 379,400 | 379,400
Michigan | 7,579 | 580,700 | 580,700
Minnesota | 3,861 | 295,800 | 295,800
Mississippi | 2,153 | 165,000 | 165,000
Missouri | 4,370 | 334,800 | 334,800
Montana | 719 | 55,100 | 76,600
Nebraska | 1,313 | 100,600 | 100,600
Nevada | 1,731 | 132,600 | 132,600
New Hampshire | 995 | 76,200 | 76,600
New Jersey | 6,543 | 501,300 | 501,300
New Mexico | 1,411 | 108,100 | 108,100
New York | 14,655 | 1,122,900 | 1,122,900
North Carolina | 6,423 | 492,100 | 492,100
North Dakota | 495 | 37,900 | 76,600
Ohio | 8,680 | 665,100 | 665,100
Oklahoma | 2,664 | 204,100 | 204,100
Oregon | 2,742 | 210,100 | 210,100
Pennsylvania | 9,569 | 733,200 | 733,200
Rhode Island | 837 | 64,100 | 76,600
South Carolina | 3,173 | 243,100 | 243,100
South Dakota | 580 | 44,400 | 76,600
Tennessee | 4,510 | 345,600 | 345,600
Texas | 16,223 | 1,243,000 | 1,243,000
Utah | 1,649 | 126,300 | 126,300
Vermont | 487 | 37,300 | 76,600
Virginia | 5,655 | 433,300 | 433,300
Washington | 4,718 | 361,500 | 361,500
West Virginia | 1,431 | 109,600 | 109,600
Wisconsin | 4,201 | 321,900 | 321,900
Wyoming | 390 | 29,900 | 76,600

Contribution Limitation Increases for Individuals, Nonmulticandidate Committees and for Certain Political Party Committees Giving to U.S. Senate Candidates for 2005-2006 Election Cycle

BCRA amended the Act to extend inflation indexing to: (1) The limitations on contributions made by persons under 2 U.S.C. 441a(a)(1)(A) (contributions to candidates) and 441a(a)(1)(B) (contributions to national party committees); (2) the biennial aggregate contribution limits applicable to individuals under 2 U.S.C. 441a(a)(3); and (3) the limitation on contributions made to U.S. Senate candidates by certain political party committees at 2 U.S.C. 441a(h). 2 U.S.C. 441a(c). These contribution limitations are increased by multiplying the respective statutory contribution amount by the percent difference between the price index, as certified to the Commission by the Secretary of Labor, for the 12 months preceding the beginning of the calendar year and the price index for the base period (calendar year 2001). The resulting amount is rounded to the nearest multiple of $100. The Commission has calculated the applicable percent difference to be 6.7 percent.

Contribution limitations shall be adjusted accordingly:

Statutory provision | Statutory amount | 2005-2006 Limitation
2 U.S.C. 441a(a)(1)(A) | $2,000 | $2,100.
2 U.S.C. 441a(a)(1)(B) | $25,000 | $26,700.
2 U.S.C. 441a(a)(3)(A) | $37,500 | $40,000.
2 U.S.C. 441a(a)(3)(B) | $57,500 (of which not more than $37,500 may be attributable to contributions to political committees that are not political committees of national political parties) | $61,400 (of which not more than $40,000 may be attributable to contributions to political committees that are not political committees of national political parties).
2 U.S.C. 441a(h) | $35,000 | $37,300.

The increased limitation at 2 U.S.C. 441a(a)(1)(A) is to be in effect for the 2-year period beginning on the first day following the date of the general election in the preceding year and ending on the date of the next regularly scheduled election. Thus the respective figure above is in effect from November 3, 2004, to November 7, 2006. The limitations under 2 U.S.C. 441a(a)(1)(B), 441a(a)(3)(A) and (B), and 441a(h), shall be in effect beginning January 1st of the odd-numbered year and ending on December 31st of the next even-numbered year. Thus the new contribution limits under 2 U.S.C. 441a(a)(1)(B), 441a(a)(3)(A) and (B), and 441a(h) are in effect from January 1, 2005, to December 31, 2006.

Dated: March 4, 2005.
Michael E. Toner,
Vice Chairman, Federal Election Commission.

[FR Doc. 05-4580 Filed 3-8-05; 8:45 am]

BILLING CODE 6715-01-P